FEDERAL COMMUNICATIONS COMMISSION

47 CFR Part 20

[PS Dockets No. 11-153, 10-255; FCC 14-118]

Facilitating the Deployment of Text to 911 and Other Next Generation 911 Applications; Framework for Next Generation 911 Deployment

AGENCY: Federal Communications Commission.

ACTION: Final rule.

SUMMARY: In this Second Report and Order, the Federal Communications Commission (Commission) requires that Commercial Mobile Radio Service (CMRS) providers and other providers of interconnected text messaging applications (collectively, “covered text providers”) be capable of supporting text-to-911 service by December 31, 2014. Covered text providers will have until June 30, 2015, or six months from the date of a Public Safety Answering Point (PSAP) request, whichever is later, to implement text-to-911 for that PSAP. These rules will provide the public with an additional means through which individuals can reach emergency services.

DATES: This final rule is effective October 16, 2014 except for the amendments to § 20.18(n)(10)(i) and (ii), (n)(10)(iii)(C), and (n)(11), which have new information collection requirements and will not be effective until approved by the Office of Management and Budget (OMB). The Commission will publish a document in the Federal Register announcing OMB approval and the relevant effective date.

FOR FURTHER INFORMATION CONTACT: Dana Zelman of the Policy and Licensing Division of the Public Safety and Homeland Security Bureau, (202) 418-0546 or dana.zelman@fcc.gov. For additional information concerning the Paperwork Reduction Act information collection requirements contained in this document, contact Benish Shah, (202) 418-7866, or send an email to PRA@fcc.gov.

SUPPLEMENTARY INFORMATION: This is a summary of the Commission's Second Report and Order in PS Docket Nos. 10-255 and 11-153, released on August 13, 2014. The full text of this document is available for public inspection during regular business hours in the FCC Reference Center, Room CY-A257, 445 12th Street SW., Washington, DC 20554, or online at http://www.fcc.gov/document/fcc-adopts-text-911-rules. The Third Further Notice of Proposed Rulemaking that was adopted concurrently with the Second Report and Order will be published elsewhere in this issue of the Federal Register.

Summary of the Second Report and Order

Introduction

1. In this Second Report and Order, we affirm the Commission's commitment to ensuring access to emergency services for all Americans. The Commission's rules must evolve as legacy networks and services transition to next generation technologies, and as consumer expectations and needs evolve. Current trends in mobile wireless usage show the continued evolution from a predominantly voice-driven medium of communication to one based more on text and data transmissions. The need to provide text-to-911 service in a timely manner is made more pressing because many consumers believe text-to-911 is already an available service, because of the unique value of text-to-911 for the millions of Americans with hearing or speech disabilities, and because of the crucial role it can play in protecting life and property when making a voice call would be dangerous, impractical, or impossible due to transmission problems.

2. In the Second Report and Order, we require that Commercial Mobile Radio Service (CMRS) providers and other providers of interconnected text messaging applications (collectively, “covered text providers”) be capable of supporting text-to-911 service by December 31, 2014.¹ Covered text providers will have until June 30, 2015, or six months from the date of a Public Safety Answering Point (PSAP) request, whichever is later, to implement text-to-911 for that PSAP.

¹ In general, “text messaging” refers to any service that allows a mobile device to send information consisting of text to other mobile devices by using domestic telephone numbers. Examples of text messaging include Short Message Service (SMS), Multimedia Messaging Service (MMS), and two-way interconnected text applications. “Covered text providers” includes all CMRS providers, as well as all providers of interconnected text messaging services that enable consumers to send text messages to and receive text messages from all or substantially all text-capable U.S. telephone numbers, including through the use of applications downloaded or otherwise installed on mobile phones. 47 CFR 20.18(n)(1). For purposes of text-to-911, we divide text applications into two broad categories: (1) Interconnected text applications that use IP-based protocols to deliver text messages to a service provider, and the service provider then delivers the text messages to destinations identified by a telephone number, and (2) non-interconnected applications that only support communication with a defined set of users of compatible applications but do not support general communication with text-capable telephone numbers. We limit initial application of our text-to-911 requirements to interconnected texts, as the term “interconnected” has been defined for purposes of text-to-911, and this definition should not be construed as affecting the definition of “interconnected service” in the context of section 332 of the Communications Act. 47 U.S.C. 332(d)(2).

Background

3. In September 2011, the Commission released a Notice of Proposed Rulemaking (NPRM), 26 FCC Rcd 13615, which sought comment on a number of issues related to the deployment of Next Generation 911 (NG911), including how to implement text-to-911. In the NPRM, the Commission stated that sending text messages, photos, and video clips has become an everyday activity for mobile device users on 21st century broadband networks, and that adding non-voice capabilities to our 911 system will substantially improve emergency response, save lives, and reduce property damage, as well as expand access to emergency help, both for people with disabilities and for people in situations where placing a voice call to 911 could be difficult or dangerous.

4. In December 2012, AT&T, Sprint Nextel, T-Mobile, and Verizon Wireless entered into a voluntary agreement with the National Emergency Number Association (NENA) and APCO International (APCO) in which each of the four carriers agreed to be capable of providing text-to-911 service to requesting PSAPs by May 15, 2014 (Carrier-NENA-APCO Agreement). As part of the Carrier-NENA-APCO Agreement, the four major carriers committed to implementing text-to-911 service to a PSAP making a “valid” request of the carrier “within a reasonable amount of time,” not to exceed six months. Carriers promised to meet these commitments “independent of their ability to recover these associated costs from state or local governments.” The commitments specifically did not extend to customers roaming on a network.

5. Also in December 2012, the Commission released a Further Notice of Proposed Rulemaking (Further Notice), 27 FCC Rcd 15659, which proposed, inter alia, to require all CMRS providers, as well as interconnected text messaging providers, to support text messaging to 911 in all areas throughout the nation where PSAPs are capable of and prepared to receive the texts. The Commission defined interconnected text messaging applications as those using IP-based protocols to deliver text messages to a service provider and the service provider then delivers the text messages to destinations identified by a telephone number, using either IP-based or Short Message Service (SMS) protocols. The Further Notice stated that “the record indicates that text-to-911 is technically feasible and can be achieved in the near term at reasonable cost to PSAPs, CMRS providers, and providers of interconnected text.” The Further Notice noted the extent to which consumers had begun to gravitate toward IP-based messaging applications as their primary means of communicating by text, that consumers may reasonably come to expect these applications to also support text-to-911, and that consumer familiarity is critical in emergency situations where each second matters. To that end, the Further Notice sought to ensure consumers' access to text-to-911 capabilities on the full array of texting applications available today—regardless of provider or platform.

6. Recognizing that text-to-911 would not be rolled out uniformly across the country or across text messaging platforms, the Commission took steps to provide consumers with clarity regarding the availability of text-to-911. In May 2013, the Commission issued a Report and Order, 28 FCC Rcd 7556, requiring covered text providers to provide consumers attempting to send a text to 911 with an automatic bounce-back message when the service is unavailable. The Commission found a “clear benefit and present need” for persons who attempt to send text messages to 911 to know immediately if their text cannot be delivered to the proper authorities. The Commission noted specifically that, “[a]s these applications proliferate, consumers are likely to assume that they should be as capable of reaching 911 as any other telephone number.”

7. In January 2014, we adopted a Policy Statement, 29 FCC Rcd 1547, stating that the Commission believes that every provider of a text messaging service that enables a consumer to send text messages using numbers from the North American Numbering Plan (NANP) should support text-to-911 capabilities. The Commission clarified that it intends to take a technologically neutral approach to any rules adopted for text-to-911 service, and it encouraged voluntary agreements to support text-to-911.

8. In 2014, we released a Second Further Notice of Proposed Rulemaking (Second Further Notice), 29 FCC Rcd 1547, seeking comment on technical issues for the implementation of text-to-911 service with respect to interconnected text providers, the provision of location information with texts to 911, and roaming support for text-to-911 service.

Second Report and Order

9. As we observed in the Second Further Notice, the progress already made by the four signatories to the Carrier-NENA-APCO Agreement by January 2014 “illustrates the technical feasibility” of text-to-911 implementation for other CMRS providers, including small and rural providers, particularly in light of adoption of the ATIS standard for text-to-911 over the SMS platform. Subsequent progress reports by these four providers have served further to confirm that view, and over a year ago the Competitive Carriers Association (CCA) supported the proposed deadline of December 31, 2014, as an achievable goal. There is substantial evidence in the record supporting those views, as to both CMRS providers and interconnected text providers. Nor is there any serious question as to the overwhelming public interest benefits to be derived from prompt implementation of text-to-911 or the relatively minimal cost of such a requirement to covered providers and PSAPs.

Adoption of Text-to-911 Requirements

10. In this Second Report and Order, the Commission requires that all CMRS and interconnected text providers (collectively, “covered text providers”) must be capable of supporting text-to-911 by December 31, 2014. “Text-to-911” refers to a service by which a consumer may send a text message to 911 in search of emergency assistance. A 911 text message is a message, consisting of text characters, sent to the short code “911” and intended to be delivered to a PSAP by a covered text provider, regardless of the text messaging platform used.² Covered text providers have six months from December 31, 2014—i.e., until June 30, 2015—to begin delivering 911 text messages to PSAPs that have submitted a valid request for text-to-911 service on or before December 31, 2014, unless another timeframe is mutually agreed upon by the individual PSAP and the covered text provider. Covered text providers have six months from any valid PSAP request received after December 31, 2014, to commence delivery of text-to-911 for that PSAP. In the sections to follow, we explain the basis for adopting text-to-911 rules, including the significant and potentially life-saving benefits that text-to-911 affords, and set forth the scope and extent of our text-to-911 requirements. We also show that the deadlines adopted are achievable and technically feasible for covered text providers.

² We clarify that legacy devices that are incapable of sending texts via three digit short codes are not subject to our text-to-911 requirements, provided the software for these devices cannot be upgraded over the air to allow text-to-911. If the device's text messaging software can be upgraded over the air to support a text to 911, however, then the covered text provider must make the necessary software upgrade available.

Public Policy Analysis

11. In the Further Notice, the Commission sought comment on a case study concerning the costs and benefits associated with implementing text-to-911 service. It also observed that the four major CMRS providers had voluntarily agreed to implement text-to-911 capability without seeking recovery of such costs from state or local government, which suggested that the implementation costs associated with text-to-911 are manageable. Subsequently, in the Second Further Notice, we sought comment on the cost of implementation for other covered text providers (including small and rural CMRS providers, as well as providers of interconnected text messaging services).

12. Availability and Ease of Use. The effectiveness of the legacy voice 911 system is in large part derived from its ease of use. People faced with the stress of emergency situations can communicate more quickly and effectively when they are able to use the same ubiquitous technologies that they use for everyday communications. This principle, which has long been applicable to voice calling, is increasingly true for text messaging communication as well. CTIA estimates that 2.19 trillion text messages were sent in 2012, and according to the Pew Center, more than 7 out of 10 cell phone users send or receive text messages. Another report suggests that 91 percent of smartphone owners actively use SMS. Moreover, the average in billable minutes of mobile voice use of the four major CMRS providers has declined steadily since 2009, with evidence that the decline is due to substitution of mobile voice by mobile messaging and other mobile data services. Thus, as the Commission has stated before, expanding existing text technology to support 911 will provide the public with a familiar mode of communication for emergency use, and we anticipate that subscribers will continue to use text messaging at the same or a greater rate than in the past.

13. Enhanced Access for People with Disabilities. Another benefit of widespread text-to-911 availability will be enhanced access to emergency services for people with disabilities. Currently, approximately 48 million people in the United States are deaf or hard of hearing, and approximately 7.5 million people have speech disabilities. Moreover, as people age, they become more likely to encounter hearing loss, with the result that such challenges are borne disproportionately by the elderly.

14. In the Second Further Notice, we explained that people who are deaf, hard of hearing, or speech disabled have been consistently migrating away from specialized legacy devices, and towards more ubiquitous forms of text messaging communications because of the ease of access, wide availability, and practicability of modern text-capable devices. This migration has had the unique benefit of bringing these users into the mainstream of our nation's communications systems, but it also has led some commenters to suggest that it leaves people who are deaf, hard of hearing, or speech disabled without an effective, reliable and direct means of accessing 911 services in the event of an emergency.

15. The Commission's Emergency Access Advisory Committee (EAAC) noted that individuals who are deaf, hard of hearing, or speech-disabled and need to communicate with 911 via voice currently have no direct means of accessing 911 while mobile other than through attaching a separate teletype (TTY) device to their cellphone. However, the vast majority of people who are deaf, hard of hearing, or speech-disabled has discarded TTYs or has never acquired or used a “mobile” TTY, and thus no longer has a practicable means of directly accessing 911. Nevertheless, the EAAC found that many individuals who are deaf have service plans that include SMS. One key finding of the EAAC is that “individuals with disabilities should be able to call 9-1-1 using the same means they use for everyday telecommunication.”

16. Today, in the absence of text-to-911, individuals who are deaf, hard of hearing, or speech disabled and who do not use TTYs have no other feasible option but to rely on telecommunications relay services (TRS) to access 911 emergency services, unless they are with another individual who can make a voice call on their behalf. Many have criticized TRS as serving only as an indirect means of emergency access that can result in delays and translation errors.

17. Moreover, enabling direct text messaging to 911 by the many people who are deaf, hard of hearing, or speech disabled will allow them to use mass market communication devices that have more advanced and increasingly evolving capabilities. While some commenters have been less supportive of SMS-to-911 because it does not support real-time text—i.e., the ability to send and receive text simultaneously with the time that it is typed without having to press a “send” key—they have given some support to SMS as a viable near-term solution because of its ease of use for people with disabilities and ubiquity in mainstream society. Respondents to the EAAC survey expressed a clear preference for calling a PSAP using the same technology that they use on a daily basis. Furthermore, 87.7 percent of EAAC respondents reported having used SMS text messaging and 46.1 percent reported having used SMS text messaging “almost every day.”

18. Alternative Means of Emergency Communication for the General Public. The ability to send text messages to 911 also will provide important benefits as an alternative means of emergency communication for the general public. For example, in the 2007 shooting incident at Virginia Tech, a number of students attempted unsuccessfully to send SMS text messages to 911, so as not to be heard and located by the shooter. During the course of Black Hawk County, Iowa's text-to-911 trial, text messaging has been used in domestic and child abuse situations in which the victim feared that the suspect would overhear the call to 911. Vermont's text-to-911 trial also demonstrated text-to-911's efficacy in cases involving suicide and domestic violence.

19. Text-to-911 can also provide a means of access to 911 when voice networks are compromised or congested. In large-scale disasters, for example, landline and mobile voice networks may become overloaded, making it difficult to place a 911 voice call. In such cases, it may be much more likely for SMS and IP-based text messages to 911 still to be successfully transmitted because they consume far less bandwidth than voice and, given the packet-switched nature of text messages, can take advantage of alternate spectrum resources and traffic channels. In other words, people in disaster areas may still be able to send text messages to 911 even if they cannot place a voice call.

20. Estimated Valuation of Benefits Floor. In an effort to quantify the benefits associated with text-to-911, we conducted a cost-benefit analysis of the potential effect of text-to-911 specifically in the area of cardiac emergencies—a category that represents less than 10 percent of 911 calls but for which detailed statistical information is available. As detailed in the Further Notice, even when we limit our analysis of benefits to this subset of total emergencies, we find that the potential benefits floor for text-to-911 for just this one category of 911 calls is $63.7 million annually, solely based on potential use by the population with the most severe hearing and speech disabilities. These life-saving benefits provide a useful reference point for assessing the importance of timely and effective 911 communications to response time and positive outcomes for medical emergencies.

21. We emphasize that these benefits for cardiac emergencies represent only a subset of the total benefits that will be generated by text-to-911. And no commenter claims that text-to-911 will not yield these benefits. Moreover, the record reflects numerous other benefits that are less quantifiable but that may result in similar or even more substantial benefits. These benefits, though not specifically quantifiable, provide convincing evidence that the aggregate benefits of text-to-911 will significantly exceed the specific benefits quantified here.

22. Few commenters questioned our cost-benefit analysis from the Further Notice. T-Mobile submitted that it is “concerned about the Commission's reliance on the Cardiac Study,” but offered no alternative calculation of benefits or evidence that the Commission's estimate was unreasonable. APCO has previously argued that cost-benefit analyses “can obscure inherently qualitative social benefits” and urged the Commission “to resist the temptation to rely on [the Further Notice's] analysis in its final decision, as it could establish a dangerous precedent for future matters involving public safety.” We agree with APCO that relying on cost-benefit analyses may result in the subordination of important public policy objectives to market forces. We recognize that public safety interests are not driven solely by economic considerations. However, in this instance, our cost-benefit analysis and public policy objectives dictate the same result.

Implementation Costs

23. CMRS Providers. The record indicates that the cost for CMRS providers to implement a text-to-911 solution is significantly less than the benefits floor discussed herein. By one estimate, the total cost for all CMRS providers to implement text-to-911 nationwide will be approximately $4 million annually over a period of five years (totaling $20 million). At $20 million for the five year projection, this five year total cost is approximately one-third the annual potential benefits floor of $63.7 million. Thus, considering the total estimated $20 million implementation cost of text-to-911, we expect that this cost will be far exceeded by the program's estimated benefits floor in the first year of text-to-911 deployment alone.

24. In the Second Further Notice, we sought comment on the specific costs of requiring CMRS providers—other than those that are a party to the Carrier-NENA-APCO Agreement—to support text-to-911 service. We noted that small and rural CMRS providers may be able to achieve cost savings in their implementation by leveraging some of the text-to-911 infrastructure that would be in place by May 15, 2014, given that the four major CMRS providers would be providing text-to-911 by this date.

25. We recognize that small and rural CMRS providers may face a comparatively larger financial burden in complying with our text-to-911 requirements than larger CMRS providers, and would prefer not to make the investment necessary for providing text-to-911 service until PSAPs have declared that they are ready for it. However, we believe that the deadline the Commission adopts in this Second Report and Order will encourage PSAPs to commit the necessary system upgrades necessary to make text-to-911 available more promptly. We also find that these costs are justified in light of the significant benefits. We expect, however, that once the initial implementation costs have been incurred to implement the system, CMRS providers' recurring costs of carrying text-to-911 traffic will be negligible, because it is a relatively small part of the network and will place only negligible demands on network capacity that is designed to handle larger volumes of voice and data services. Moreover, given the magnitude of public benefits at stake compared to the costs, we believe that the minimal cost burden for small and rural CMRS providers to implement text-to-911 is justified.

26. Interconnected Text Providers. In the Second Further Notice, we provided our own estimates and sought comment on the associated costs for implementing each of the four delivery models for interconnected text providers and any other potential initial or ongoing costs of implementation. In response, several commenters provided dollar estimates for the anticipated costs of implementation of text-to-911 by interconnected text providers that were relatively consistent with our estimates.

27. While we recognize that the text-to-911 requirements we adopt today will impose costs on interconnected text providers, we believe those costs are reasonable, particularly in light of the significant public safety benefits of providing text-to-911 service. We find that our proposed cost estimates for implementation of text-to-911 by interconnected text providers are supported by the record. To the extent parties such as ITIC and textPlus disagree, they have failed to support their claims with any documented evidence. For example, ITIC does not reveal how comprehensive the price disclosures were, or who provided the estimates, or how they would scale over such a large volume of users. As such, we are unpersuaded by ITIC's unsubstantiated and vague estimates. Finally, neither ITIC nor textPlus explain why our methodology is unreasonable. Ultimately, we realize that imposing text-to-911 requirements is not without a cost to these providers. At the same time, however, we find that these costs are justified and reasonable in light of the fundamental public interest benefits to be gained, the need to provision text-to-911 service to ensure that all Americans have access to emergency services, and the increasing reliance on OTT text applications.³

³ “Over-the-top” (OTT) generally refers to applications that operate on Internet protocol (IP)-based mobile data networks and that consumers can typically install on data-capable mobile devices. In contrast, SMS requires use of an underlying carrier's SMS Center (SMSC) to send and receive messages from other users. Multi-media Messaging Service (MMS)-based messaging makes use of the SMSC but also involves the use of different functional elements to enable transport of the message over IP networks. OTT text applications enable consumers to send text messages using SMS, MMS or directly via IP over a data connection to dedicated messaging servers and gateways. OTT texting applications may be provided by the underlying mobile CMRS provider or a non-affiliated third-party, and may be “interconnected” or “non-interconnected.”

28. We also emphasize that costs likely will vary based on the particular text-to-911 solution an interconnected text provider chooses to implement. Because text traffic in the CMRS network-based delivery model would be routed over CMRS networks, there should be little cost to interconnected text providers to support text-to-911. However, we believe that the question of reasonable compensation may be resolved through direct billing of the underlying user through his or her SMS plan, or through business arrangements between interconnected text providers and CMRS providers. We remind CMRS providers of our fundamental view that text-to-911 will provide significant benefits to all consumers.

29. Finally, we agree with parties who argue that supporting text-to-911 must be factored into the general cost of doing business and that “the provision of emergency services to their customers is not an optional feature, it is necessary infrastructure.” Accordingly, we find that the costs of implementation by interconnected text providers are outweighed by the public interest benefits in ensuring that Americans have access to emergency services through interconnected text messaging.

30. PSAPs. Based on the record in this proceeding, the success of various text-to-911 trials, and the recent modest increase in PSAP adoption, we find that our text-to-911 rules will not impose an undue burden on PSAP operations. First, PSAPs retain discretion as to whether it will accept text messages. We strongly encourage PSAPs to implement text-to-911 in their jurisdictions and expect that consumer demand and considerations of public safety will drive this investment. Investments made now by PSAPs and covered text providers to support text-to-911 can also be leveraged to support future NG911 deployments and, accordingly, serve as building blocks towards an IP-based emergency network. Second, PSAPs have several options for the receipt of text messages, including options that will impose minimal costs on the PSAP. For example, while some PSAPs may choose to implement text-to-911 using existing equipment, such as existing NG911 customer-premises equipment (CPE), web browsers, or TTY terminals, other PSAPs may choose to upgrade their equipment to receive text messages in a manner that will also support additional data once in an NG911 environment. Third, PSAPs that have already implemented text-to-911 or participated in text trials have provided anecdotal evidence that texts to 911 will not likely overwhelm any PSAP and that text-to-911 service saves lives.

31. We conclude that the benefits floor for the first year of text-to-911 is $63.7 million. Balanced against the cost estimates in the record, the implementation of text-to-911 will provide substantial benefits both for people with disabilities and the general public in a variety of scenarios. In addition to the life-saving benefits, implementing text-to-911 could yield other benefits, such as reduced property losses and increased probability of apprehending criminal suspects. We note that text-to-911 is not a market-driven service. However, we find that there is demand for the service from deaf, hard of hearing, and speech-disabled individuals, and to date, the marketplace has not responded to this demand. Accordingly, we find that adopting text-to-911 requirements for covered text providers is justified given this cost-benefit analysis.

Delivery of Text-to-911 by All Covered Text Providers

32. We adopt a two-step obligation for covered text providers to implement text-to-911. All covered text providers must be capable of supporting text-to-911, independent of whether they have received a PSAP request, by December 31, 2014. Then, covered text providers would have six months from the date that an individual PSAP provides notice that it is “text-ready” to undertake necessary network and protocol configuration to deliver texts to an individual PSAP.

33. Scope. As in the Bounce-Back Order, 28 FCC Rcd 7556, we define “covered text providers” to include all CMRS providers, as well as all providers of interconnected text messaging services that enable consumers to send text messages to and receive text messages from all or substantially all text-capable U.S. telephone numbers, including through the use of applications downloaded or otherwise installed on mobile phones.⁴ We find that imposing the same requirements and deadlines to both CMRS and interconnected text messaging service providers is necessary to serve the public interest. The scope we adopt today is particularly important given existing and predicted future trends toward greater use of non-CMRS applications for texting, and in light of our recognition that the transition to NG911 “is still in the early stages.” Thus, as NENA has noted, the Commission's proposals “represent the logical next steps aimed at sustaining this momentum and minimizing consumer confusion about the availability and functionality” of text-to-911.

⁴ We exclude text messaging services that use U.S. telephone numbers for administrative or identification purposes only, but that are not interconnected. We also exclude relay service providers, mobile satellite service (MSS), and in-flight text messaging services from the scope of our requirements at this time. Sprint, a major IP relay provider, states that “relay services are not delivered via SMS and should remain separate until a more robust, reliable text-to-911 messaging service becomes available . . . Likewise, disability groups oppose incorporating relay services into a text-to-911 mandate. We also agree that airborne text-to-911 communications presents particular challenges, due to the unique nature of in-flight service, and that MSS is a specialized offering with a focus on enterprise and government users. We therefore exclude these services from the scope of our text-to-911 requirements. Finally, we exclude from our requirements at this time 911 text messages that originate from Wi-Fi only locations or that are transmitted from devices that cannot access the CMRS network. We defer consideration of whether to extend text-to-911 requirements to these services until a future time.

34. One of the Commission's mandates under the Twenty-First Century Communications and Video Accessibility Act of 2010, Pub. L. 111-260, Oct. 8, 2010, 124 Stat. 2751 (CVAA), is to expand access to emergency communications for individuals with disabilities. In order for the Commission to achieve this goal, it is necessary to include both CMRS and providers of interconnected text messaging services within the scope of the requirement. Many interconnected text providers offer the same functions as CMRS-provided text messaging; for this reason, individuals with disabilities may opt for such a service in lieu of a CMRS-based text messaging plan or may rarely or never use the built-in CMRS text messaging capability. In such cases, if interconnected text providers are not required to support text-to-911, these individuals may remain unaware of the potential availability of this capability through CMRS providers, or find it difficult to navigate to any such capability during emergency situations where time is critical.

35. Second, imposing the same requirements on both CMRS and interconnected text providers will respond to consumers' reasonable expectations and reduce consumer confusion. As noted earlier, consumers may incorrectly assume that unavailability of text-to-911 through OTT texting services upon which they rely would be replicated on the CMRS native text platform, or face critical delays in determining how to migrate to that platform in an emergency.

Technical Feasibility and the “Text-Capable” Deadline

36. We find that it is technically feasible for all covered text providers to be capable of supporting text-to-911. Given that all covered text providers have at least one technically feasible and achievable path to implementation, we establish a single, uniform deadline of December 31, 2014 for all covered text providers to be “text-capable.” We believe that this deadline achieves our goal of ensuring that text-to-911 is implemented as swiftly as feasibly possible. We also believe there are benefits to adopting a uniform deadline for all covered text providers. By this “text-capable” deadline, a covered text provider should have made any preparations necessary to provide text-to-911, including, for example: (1) Determining the particular solution it will use for delivering texts to 911, including the capability to obtain location information sufficient to route texts to 911 to the appropriate PSAP; (2) identifying and/or entering into any necessary contractual arrangements with other stakeholders to implement text-to-911, including, but not limited to, arrangements for routing interconnected text-to-911 traffic; and (3) adopting requisite budgetary and other resource allocation plans to provide for delivery of text-to-911 in accordance with our requirements.⁵

⁵ While we do not require each of these steps nor intend for this list to be exhaustive, a covered text provider that has completed each of these steps will be considered text-capable under our rules. We further note that satisfying this text-capable requirement does not necessarily entail the expenditure of funds, provided the covered text provider takes all necessary steps to be able to provide text-to-911 within six months of receiving a PSAP request. Whether the expenditure of funds is necessary to comply with our requirements is a business and operational decision that may vary by individual covered text provider.

37. Based on the record, adoption of the ATIS/TIA J-STD-110 standard, and existing text-to-911 deployments by AT&T, Sprint, T-Mobile, and Verizon Wireless, it is clear that it is technically feasible for CMRS providers to support text-to-911. In the Second Further Notice, we proposed to require all covered text providers be capable of supporting text-to-911 service by December 31, 2014. In response, a number of public safety and technology vendors express support for this proposed deadline with regard to CMRS providers.

38. We are unpersuaded by arguments by some small and rural CMRS providers that, absent a PSAP request for service, covered text providers should not be required to develop text-to-911 capability. CCA supported the December 31, 2014 deadline over a year ago. CCA does not challenge the feasibility of meeting that deadline, but argues that such a deadline is not likely to help the Commission achieve its goal because “PSAPs are the gatekeepers for this service, and until the Commission finds a way to increase PSAP adoption, the deadline imposed on carriers will not further the Commission's objectives.” We agree that the Commission needs to encourage PSAP adoption, but we believe that establishing a set deadline is the best means by which to do so. As APCO argues, absent a date certain by which covered text providers will make text-to-911 available, PSAPs will not have any incentive to commit to necessary system upgrades for text-to-911. We believe that the “text-capable” deadline we adopt today will serve to encourage PSAPs to plan for and request text-to-911 service. Furthermore, the implementation of text-to-911 is already underway. We recognize that there may be a number of factors that PSAPs must address before implementing text-to-911 and that might result in a later deployment timeframe, including funding or other resource issues, determining how best to integrate their chosen delivery method (TTY, web browser, or i3 ESinet/IP interface) with their existing PSAP infrastructure, or assessing how to incorporate text-to-911 as part of a larger migration to NG911.

39. We are also unpersuaded by other arguments in the record that we should adopt a different deadline. For example, CCA suggests that “the Commission should benchmark smaller wireless providers' implementation deadline from adoption of a final order, rather than the predetermined December 31, 2014 date.” Adopting a December 31, 2014 deadline, consistent with our proposal in the Second Further Notice, is based on our evaluation of the comments in the record, as well as the demonstrated ability of CMRS providers to deliver texts to 911, given text-to-911 deployments already in existence. And small and rural CMRS providers should be able to leverage some of the text-to-911 databases and other infrastructure that text-to-911 vendors have had in place since May 15, 2014 to support provision of text-to-911 by AT&T, Sprint, T-Mobile, and Verizon Wireless. We therefore believe that a December 31, 2014 text-capable deadline should be achievable and technically feasible.

40. The record also demonstrates that there is at least one technically feasible approach that exists today for interconnected text providers to support text-to-911 by December 31, 2014, with additional solutions under development. The record shows that interconnected text providers could feasibly implement at least one proposed text-to-911 delivery model—the CMRS network-based model ⁶—by December 31, 2014. In light of the fact that multiple interconnected text providers filed comments in the record indicating that a December 31, 2014 deadline is technically feasible, we are unpersuaded by other parties who suggest interconnected text providers will need additional time, or that adopting a deadline for interconnected text providers would be inappropriate at this time. We also disagree that certain technical issues justify a later deadline for interconnected text providers. Based on consideration of the record as a whole, we believe a December 31, 2014 deadline is reasonable.

⁶ The “CMRS network-based model” is premised upon a texting application's use of the wireless device's native SMS application programming interface (API) after recognizing that the user is sending a text message to the text short code “911.” This functionality is distinct from the application's normal operating mode, which is generally designed to route a text via a means other than the native SMS capability of the device. Upon invoking the native SMS texting application, the text-to-911 message will be handled by the underlying CMRS provider, i.e., the text will be routed through the CMRS provider's (or its agent's) TCC, which is the functional element of the Short Message Service Center (SMSC) dedicated to routing texts to the appropriate PSAP.

41. In light of our commitment to technologically neutral rules, as the Commission emphasized in the Policy Statement, we do not mandate any particular model for implementing text-to-911. Because SMS is the most common texting technology in use today, and virtually all wireless consumers already have access to it and are familiar with its use, we expect that most CMRS providers will initially support SMS-based text-to-911. However, we acknowledge that CMRS providers may eventually seek to migrate customers away from SMS.⁷ We do not require CMRS providers to support SMS-based text-to-911 indefinitely, so long as they provide their customers with at least one text-to-911 option per device that works across the provider's entire network coverage area. CMRS providers may select any reliable method or methods (e.g., SMS, IP-based) for text routing and delivery.⁸ Although covered text providers may utilize a messaging platform that can support multiple addresses or enable sending images and video, covered text providers must ensure that these features do not interfere with the delivery of the text portion of the message to a PSAP.⁹

⁷ For example, T-Mobile notes its plan to migrate former MetroPCS subscribers from their legacy CDMA network to its HSPA and LTE networks. It argues that “the Commission should exempt networks that will be decommissioned within eighteen months of the effective date of the new mandate . . . To do otherwise would mandate wasteful investment in a capability that will be soon discarded along with the rest of that network.” We agree and, accordingly, will exempt networks that will be decommissioned before June 30, 2016, on the condition that subscribers are migrated by that date to networks with the required text-to-911 capability.

⁸ We expect parties will take other necessary measures to facilitate text-to-911, such as ensuring the interconnection of various TCCs. TCC interconnection is addressed in the revised J-STD-110.a. We will continue to monitor the progress of text-to-911 implementation, including the status of interconnection between TCCs and whether additional action may be necessary.

⁹ For example, a consumer may send a text message to 911 and include other telephone numbers in the address field in addition to the short code “911.” The covered text provider must ensure that processing of the text for delivery to the non-911 addresses does not affect the delivery of the text to the PSAP and any subsequent two-way text exchange between the texter and the PSAP. Likewise, if a consumer attaches multimedia to a text message to 911, the covered text provider must ensure delivery of the text portion of the message without interference or alteration of the text and subject to the requirements for text delivery set forth by the PSAP.

42. With respect to interconnected text providers, we anticipate that many will choose the CMRS network-based solution to deliver texts-to-911, at least as an interim measure. We expect CMRS providers will continue to allow access to capabilities necessary for transmission of text-to-911 communications by other covered text providers. In order to facilitate the use of this method, CMRS providers shall allow access to capabilities necessary for transmission of text-to-911 communications by other covered text providers. We incorporate this requirement into our rules.¹⁰ We make clear, however, that we do not require CMRS providers to reconfigure any SMS text-to-911 platforms in order to facilitate the ability of other covered text providers to access the CMRS providers' networks, and that CMRS providers' obligation to allow access to CMRS networks is limited to the extent that the CMRS providers offers SMS. It is the responsibility of the covered text provider selecting the CMRS network-based solution to ensure that its text messaging service is technically compatible with the CMRS provider's SMS networks and devices, and in conformance with any applicable technical standards.¹¹ Further, we find that it is reasonable for CMRS providers to receive commercially reasonable compensation for the delivery of 911 text messages. We do not require CMRS providers to allow text-to-911 traffic over their SMS networks from end users that do not have an SMS plan (an SMS plan may include a bulk messaging plan, a pre-paid messaging plan, or a per-message plan).¹² In this way, CMRS providers may receive commercially reasonable compensation for delivery of texts to 911 directly from the end user. All covered text providers using the CMRS network-based delivery model for text-to-911 must clearly inform consumers that, absent an SMS plan with the consumer's underlying CMRS provider, the covered text provider may be unable to deliver 911 text messages. As noted earlier, CMRS providers may choose to migrate away from SMS platforms in favor of newer technologies; we therefore limit the scope of this access requirement to the extent that CMRS providers offer SMS.¹³ CMRS providers are not subject to any obligation to maintain the SMS network for use by other covered text providers. In this manner, we do not establish “an open-ended obligation to third-party competitors.” We do, however, require that the CMRS provider must provide reasonable advance notice to the affected covered text providers about its choice to migrate to a new technology not less than 90 days prior to the migration to such technology. We believe this framework will spur innovation from interconnected text providers to actively develop solutions to support text-to-911 without reliance on CMRS providers' underlying networks. We nevertheless encourage parties to negotiate solutions to facilitate continued compliance with our text-to-911 requirements, including solutions whereby CMRS providers would continue to carry other covered text providers' texts to 911 over their new networks where technically feasible, again pursuant to commercially reasonable business arrangements negotiated on an individualized basis.

¹⁰ Some commenters argue that it is device manufacturers or the device's operating system (OS)—not the CMRS provider—that affects whether a text message originating in a non-native text application will be able to access the CMRS network. In the event covered text provider cannot deliver texts to 911 for a particular device due to that device's OS, they should seek a waiver of our rules.

¹¹ We expect CMRS providers to make any necessary specifications for accessing their SMS networks available to other covered text providers upon request, and to inform such covered text providers in advance of any changes to these specifications.

¹² Rather than directly billing the end user, CMRS providers and interconnected text messaging providers may choose to negotiate an agreement, pursuant to commercially reasonable price and other terms, that may address questions relating to compensation. Parties are not required to enter into any such arrangement. Regardless of how the CMRS provider receives reasonable compensation, however, the CMRS provider's obligation to carry text-to-911 traffic is limited to end users with an SMS plan, as noted above.

¹³ Even if a covered text provider chooses to implement the CMRS network-based approach for delivery of 911 text messages, we affirm that each individual covered text provider is individually responsible for its compliance with the text-to-911 requirements set forth herein, including responsibility for educating its users regarding how text-to-911 might work for their particular interconnected text messaging applications. Furthermore, we do not specify or require any terms or conditions governing the relationships between covered text providers and CMRS providers, beyond specifying that, to the extent they enter into business agreements regarding access to SMS networks, the terms of such agreements should be commercially reasonable.

43. Finally, any covered text provider that is unable to meet the text-capable deadline may seek waiver relief. We decline to adopt a waiver standard that would be specific to our text-to-911 requirements. The Commission may grant relief pursuant to the waiver standards set forth in Sections 1.3 and 1.925 of its rules, and we believe these provisions are sufficient to address any requests for relief of the text-to-911 requirements, which we will evaluate based on the facts and circumstances of the particular request.

Six-Month Implementation Period To Deliver Texts To Text-Ready PSAPs

44. Subsequent to the “text-capable” deadline, we require covered text providers to commence delivery of texts to 911 within six months of a valid PSAP request. For all PSAP requests received on or before December 31, 2014, covered text providers must commence text-to-911 service to such PSAPs by June 30, 2015. We find that a six-month implementation window for all covered text providers to begin delivering text-to-911 service to requesting PSAPs is both technically and economically feasible.

45. The Second Further Notice proposed to require covered text providers to implement text-to-911 service within six months of a “valid PSAP request.” In response, several commenters agree that a six-month implementation period is sufficient for all CMRS providers, including small and rural CMRS providers.

46. On the other hand, Rural Wireless Association (RWA) argues for permitting CMRS providers up to one year after a PSAP request to begin delivering text messages to that PSAP. RWA states that “[f]or carriers deploying LTE-only networks, texting cannot be provided absent the integration of IP Multimedia Subsystem (IMS) software into the LTE core, which is dependent on the release of IMS software by major equipment and software vendors.” On balance, we believe that the December 31, 2014 initial “text-capable deadline,” combined with a subsequent six-month period to deliver texts to requesting PSAPs, provides covered text providers with a sufficient amount of time to implement our requirements.¹⁴ We disagree with RWA that small and rural CMRS providers need more time to become capable of supporting text-to-911 traffic from covered text providers utilizing the CMRS network-based model. CMRS providers need not play an active role in the routing of such traffic and need only refrain from interfering with access to necessary CMRS capabilities. Further, RWA's argument with respect to obtaining IMS software represents a business concern that should be addressed through marketplace negotiations. Accordingly, with regard to PSAPs making valid requests for service by December 31, 2014, all covered text providers should commence delivery of texts no later than June 30, 2015.

¹⁴ We note that the requirements adopted herein do not suspend the timelines agreed upon in the Carrier-NENA-APCO Voluntary Agreement.

47. For the purposes of our rules, a “valid PSAP request” means that: (1) The requesting PSAP is, and certifies that it is, technically ready to receive 911 text messages in the format requested; (2) the appropriate local or State 911 service governing authority has specifically authorized the PSAP to accept and, by extension, the covered text provider to provide, text-to-911 service; and (3) the requesting PSAP has notified the covered text provider that it is both technically ready to receive 911 text messages and has been authorized to accept such messages. We note that the elements of a “valid PSAP request,” which we describe here, are generally consistent with the terms of the Carrier-NENA-APCO Agreement. The requesting PSAP may notify a covered text provider by either registering in the Commission's database, or providing the covered text provider with any other written notification that is reasonably acceptable to the covered text provider. Additionally, while we decline to extend the six-month implementation period for small and rural carriers as RWA suggests, we will allow PSAPs and covered text providers the opportunity to mutually consent to an alternative implementation timeframe, beyond the standard six-month implementation window, as suggested by Verizon. We agree with Verizon that this will “enable service providers to flexibly handle unforeseen delays on an informal basis with individual PSAPs, without the need to burden the Commission with waiver requests.” We require covered text providers to notify the Commission of any such alternative arrangements and deployment schedules within 30 days of entering into such an agreement.¹⁵ We anticipate that any PSAPs requesting text-to-911 service will want to deploy the service as swiftly as possible, and therefore, that PSAPs will not agree to an alternative timeframe unless there is a legitimate reason for doing so.

¹⁵ The covered text provider must file such notification in PS Docket Nos. 10-255 and 11-153, and may request confidential treatment of its filing or a portion of the filing pursuant to § 0.459 of the Commission's rules. 47 CFR 0.459.

Notification to Covered Text Providers

48. In order to facilitate implementation of our text-to-911 requirements, we will implement a centralized database, to be administered by the Commission, that will reflect the text-readiness of individual PSAPs. We find that a centralized approach would best serve the interests of both PSAPs and covered text providers in the implementation process, rather than requiring PSAPs to make individual requests for text-to-911 service. For example, a PSAP registry will address concerns raised in the record by public safety entities regarding the volume of covered entities that might be subject to our text-to-911 requirements, and the associated burden of reaching out to each of them to request text-to-911. Utilizing a centralized database would allow PSAPs to indicate their readiness to receive texts to 911 in one place, which would in turn serve as notice to all covered text providers, regardless of whether the PSAP has a previous relationship with the covered text provider.

49. Accordingly, the Commission will establish and maintain a centralized database so as to provide PSAPs with an option to register their text-readiness. Registration in the Commission's PSAP database will commence the six-month implementation timeframe for covered text providers in their area. In order for a PSAP to register in our database as “text-ready,” the requesting PSAP must certify that it is technically ready to receive 911 text messages in the format requested, and the appropriate local or State 911 service governing authority has specifically authorized the PSAP to accept and, by extension, the covered text provider to provide, text-to-911 service. The database will include contact information so that covered text providers may coordinate with PSAPs regarding the specific implementation criteria, like the PSAP's selected method of receiving texts. PSAPs that are already accepting texts as of December 31, 2014 will be presumed to be “text-ready” and will be automatically registered in the database, unless they inform the Commission otherwise.

50. A centralized database addresses requests from public safety entities seeking a more streamlined process to request text-to-911 service. Covered text providers should periodically review the text-readiness of PSAPs in their service areas and reach out to these PSAPs as necessary to coordinate implementation of text-to-911 service. To the extent possible, we encourage PSAPs and covered text providers to follow the processes recommended by CSRIC in its recent report, CSRIC IV WG1, Final Report on PSAP Best Practices, (rel. June 18, 2014) (CSRIC PSAP Best Practices Report), available at http://transition.fcc.gov/pshs/advisory/csric4/CSRIC_IV_WG-1_Task-2_Final_061814.pdf, outlining best practices and guidelines for PSAPs making requests for text-to-911 service.¹⁶

¹⁶ In its PSAP Best Practices Report, CSRIC includes an “SMS Text-to-9-1-1 Readiness Questionnaire” for PSAPs to complete and return to covered text providers as part of the text-to-911 implementation process, in order to provide full and consistent information regarding the PSAP's technical and operational capabilities to receive texts to 911. We anticipate that covered text providers may seek a waiver of the implementation deadline because a PSAP that requests text messages is not, in fact, text-ready. To the extent the PSAP has undertaken the best practices referenced in CSRIC's report, we will adopt a rebuttable presumption that a PSAP is text-ready and has submitted a valid PSAP request, thereby placing the burden on carriers to show otherwise.

51. We direct the Public Safety and Homeland Security Bureau (PSHSB) to develop, implement, and maintain the centralized database for purposes of implementing our text-to-911 requirements. PSHSB should provide additional information regarding the database, including the availability of the database for PSAP registration, in a subsequent Public Notice. In the interim, PSAPs that are text-ready before the database is publicly available may file notifications with the Commission.¹⁷ We also direct PSHSB to maintain and regularly update its Web site to identify any new PSAPs that have provided notice of their text readiness, and to supplement updates to the Web site with regular Public Notices.

¹⁷ Parties should file in PS Docket Nos. 10-255 and 11-153.

52. While registration in the database is one way by which PSAPs may trigger text-to-911 obligations by covered text providers, and the record suggests that it is the most efficient mechanism, we do not require its use. The obligations of covered text providers may also be triggered by any other written notification to them by PSAPs. Finally, we note that PSAPs retain the choice of whether to receive texts to 911, as well as whether to participate in registering as “text-ready” in our centralized database. Not registering in the database will not preclude PSAPs from being able to obtain text-to-911 service. That is, covered text providers still must provide text-to-911 service within six months of receiving a valid PSAP request, irrespective of whether a PSAP has registered as “text-ready” with the Commission.

Routing of Text Messages to 911

53. We require covered text providers to route texts to 911 using coarse location (cell ID and cell sector) or other equivalent means that allows the covered text provider to route a text to the appropriate PSAP. The record in this proceeding, as well as the current ATIS/TIA Joint Standard 110 (J-STD-110), demonstrate that coarse location is currently feasible for text-to-911 purposes, and it is already being used to route texts to the proper PSAP in active text-to-911 deployments. The ATIS/TIA J-STD-110 defines coarse location information as “typically the initial location estimate of the mobile device,” consisting of “the Latitude/Longitude (X/Y) coordinates representing the geographic center (centroid) of the cell site/cell site sector area currently associated with the mobile device where the emergency communication dialogue was initiated.”

54. On June 18, 2014, CSRIC IV WG1 released a report, CSRIC IV WG1, Final Report—Investigation into Location Improvements for Interim SMS (Text) to 9-1-1 (rel. June 19, 2014) (CSRIC Enhanced Location Report), available at http://transition.fcc.gov/pshs/advisory/csric4/CSRIC_IV_WG-1_Task-1_Final_061814.pdf, evaluating the ability of covered text providers to generate and deliver enhanced—that is, more granular than coarse—location information with text to 911. CSRIC concludes that “there is no solution for generating enhanced location in an SMS text to 9-1-1 session for any currently deployed systems that does not require user equipment (`UE') changes, network changes, or both.” CSRIC further notes that “some existing technologies, upon which the SMS text to 9-1-1 service is based, face challenges and provide for extremely limited additional standards development.” CSRIC recommends that the Commission “refrain from wireless E9-1-1 Phase II-like mandates for SMS text to 9-1-1 service and instead encourage further development and implementation of more robust . . . solutions.” CSRIC also stated in its PSAP Best Practices Report that, under the J-STD-110, “only coarse location is required, any rebid functionality is OPTIONAL.”

55. The CSRIC report and the consensus in the record lead us to conclude that enhanced location information cannot be supported by all currently available location technologies or all devices and operating systems. However, to wait for the capability to support more granular location data—rather than adopting a coarse location requirement now—would delay the implementation of text-to-911. We note that some form of location information is necessary in order to route a text message to the appropriate PSAP and to implement text-to-911 rules. Thus, based on CSRIC's findings and other record support that coarse location is currently feasible, and except with respect to interconnected text providers that do not access the CMRS network, we require that covered text providers must obtain location information sufficient to route texts to the appropriate PSAP, using coarse location information or an equivalent means. The Commission has previously noted that J-STD-110 permits a CMRS provider to provide enhanced location information where possible. To the extent it is feasible, we encourage them to do so.

56. In the event a covered text provider implements a text-to-911 solution that does not access the CMRS network—and therefore cannot provide coarse location—the covered text provider must obtain sufficient location information through some other means (e.g., through commercial location-based services or through the device's location application programming interface) to route the text to the appropriate PSAP. All covered text providers using device-based location information that requires consumer activation must clearly inform consumers that they must grant permission for the text messaging application to access the wireless device's location information in order to enable text-to-911. If a consumer does not permit this access, then the application must provide an automated bounce-back message.

57. Finally, we emphasize that this approach is only an interim solution, and that we intend to require the delivery of enhanced location information with texts to 911 as soon as it is technically feasible to do so.

Liability Protection

58. In the Further Notice, the Commission recognized that adequate liability protection is needed for PSAPs, CMRS providers, interconnected text providers, and technology vendors to proceed with implementation of text-to-911. The Commission noted that the New and Emerging Technologies 911 Improvement Act, Public Law 110-283, July 23, 2008, 122 Stat. 2620 (NET 911 Act); 47 U.S.C. 615a, expanded the scope of state liability protection by requiring states to provide parity in the degree of protection provided to traditional and non-traditional 911 providers. In the Next Generation 9-1-1 Advancement Act of 2012, Public Law 112-96, Feb. 22, 2012, 126 Stat. 156; 47 U.S.C. 1472, section 6506 (NG911 Advancement Act), Congress further extended these parity provisions to providers of NG911 services. The Further Notice sought comment on whether providers of text-to-911 service have sufficient liability protection under current law to provide text-to-911 services to their customers. The Commission observed that under the Carrier-NENA-APCO Agreement, the four major CMRS providers have committed to deploy text-to-911 capability without any precondition requiring additional liability protection other than the protection afforded by current law. Nevertheless, the Further Notice sought comment on whether the Commission could take additional steps—consistent with our regulatory authority—to provide additional liability protection to text-to-911 service providers.

59. In January 2014, the Commission sought further comment on whether adopting the proposed text-to-911 requirements would assist in mitigating liability concerns by establishing standards of conduct that could be invoked by covered text providers in defense against state tort liability or similar claims. In response, several commenters argue that liability protection for 911 market participants should be established on a national scale. For example, AT&T argues that “[Text-to-911] . . . demands a national plan and . . . clear and unambiguous, comprehensive, standardized, nationwide liability protection that applies equally to all parties in the stream of commerce that support it.”

60. With regard to parity of liability protection for interconnected text providers, VON Coalition urges the Commission to expand liability protection for these providers and notes that “exposing interconnected text providers to unlimited liability for 911 texts will chill investment, research and development in these important services.” However, two commenters suggest that the NET 911 Act provides a sufficiently flexible definition of “other emergency communication service provider,” such that any new entrants to this market—i.e., non-CMRS covered text providers—would be entitled to the parity of liability protection set forth in the NET 911 and NG911 Advancement Acts, and therefore, would not be exposed to unlimited liability.

61. Based on our interpretation of the statute, we conclude that covered text providers subject to our text-to-911 requirements fall within the scope of “other emergency communications service providers” under section 201(a) of the NET 911 Act. Under section 201(a), “other emergency communications service providers” include “an entity other than a local exchange carrier, wireless carrier, or an IP-enabled voice service provider that is required by the Federal Communications Commission consistent with the Commission's authority under the Communications Act of 1934 to provide other emergency communications services.” ¹⁸ We find interconnected text providers within the scope of our jurisdiction and require them to support text-to-911 service. We also find that text-to-911 service, as we require in this Second Report and Order, satisfies the definition of “other emergency communications services,” because it clearly provides “emergency information” to a PSAP via radio communications. Accordingly, we conclude that Congress intended that all covered text providers should be given parity of liability protection for the provision of text-to-911.

¹⁸ The Commission noted in the Further Notice that the Carrier-NENA-APCO Agreement does not address liability protection, indicating that the four CMRS provider parties were willing to proceed with the implementation of Text-to-911 under the existing law at the time, including the NET 911 Act. The NET 911 Act alternatively defines “other emergency communication service providers” to include, in the absence of a Commission requirement, “an entity that voluntarily elects to provide other emergency communications services and is specifically authorized by the appropriate local or State 9-1-1 service governing authority to provide other emergency communications services.” We find that the voluntary provision of text-to-911 service, in response to an authorized PSAP request, falls within the scope of “other emergency communication services,” and accordingly, would also receive parity of liability protection for such service under the NET 911 Act.

Treatment of Voluntary Agreement

62. In the Second Further Notice, we sought comment on whether and how any rules adopted in this proceeding could provide a “safe harbor” option for companies that have entered into voluntary agreements with public safety that the Commission has determined serves the public interest. Several commenters state that such an approach would be appropriate for covered text providers who have entered into voluntary agreements to support text-to-911.

63. We find it unnecessary to adopt any “safe harbor” provisions at this time. The only parties to date that have entered into a voluntary agreement to support text-to-911 are the CMRS provider parties to the Carrier-NENA-APCO agreement. Because the scope of the rules adopted in this Second Report and Order is consistent with the scope of their obligations under the voluntary agreement, there is no need for a “safe harbor.” Since no other parties would be eligible for safe harbor status, we decline to adopt any such provision here.

Consumer Education

64. The Commission has already committed PSHSB and the Consumer and Governmental Affairs Bureau (CGB) to implement a comprehensive consumer education program concerning text-to-911, and to coordinate their efforts with state and local 911 authorities, other federal and state agencies, public safety organizations, industry, disability organizations, and consumer groups, consistent with those voluntary measures taken under the Carrier-NENA-APCO Agreement. We find that the Commission's Web site, together with the continued efforts of PSHSB and CGB, should continue to serve as a leading means of consumer education, and direct the Bureaus to continue their collaborative efforts.

65. We also expect that relevant text-to-911 stakeholders will join in and enhance these educational efforts. As we implement a comprehensive plan for educating the public on the availability and features of text-to-911, we must consider all angles of engaging and educating the public, including those who are deaf, hard of hearing or have speech disabilities. An effective public education campaign should invest not only in traditional methods of outreach, such as Web sites and targeted education for more vulnerable segments of the population (including people with disabilities and children), but also in new forms of media—specifically, text messaging. We therefore encourage covered text providers to use text messaging to inform consumers of the availability of text-to-911 once this service has commenced in a given area.

Legal Authority

66. In the Bounce-Back Order, the Commission closely examined our legal authority in connection with text-to-911 service and identified multiple, independent bases of legal authority to support action in that context. In particular, the Commission found that several provisions of Title III provide the Commission with direct authority to impose text-to-911 bounce-back requirements on CMRS providers, that the CVAA vests the Commission with direct authority to impose 911 bounce-back requirements on both CMRS providers and other providers of interconnected text messaging applications, including OTT providers, and that the agency has ancillary authority to apply 911 bounce-back requirements to providers of interconnected text messaging services, including OTT providers. The Commission explained, inter alia, that imposing 911 bounce-back rules on interconnected text providers was reasonably ancillary to the Commission's Title III mandate regarding the use of spectrum, to its CVAA mandate regarding the migration to fully NG911 capable systems, and to the Commission's statutory authority to adopt 911 regulations that ensure that consumers can reach emergency services so as to promote the safety of life and property.

67. In response to the Second Further Notice, no commenter objects to the Commission's authority to require CMRS providers to support text-to-911. On the other hand, several commenters question the Commission's authority over interconnected text providers. For example, VON Coalition does not dispute that the Commission's direct authority under the CVAA extends to the regulation of interconnected text providers. However, it raises two separate questions about the use of that direct authority here. First, it argues that the CVAA precludes any requirement for the use of proprietary technology, and that the “network and server-based models” would violate this mandate. Second, it suggests that these two models—in contrast to the “SMS-API model”—“may” violate the CVAA's mandate that they be “achievable.” Although Verizon does not assert that the Commission does not have jurisdiction, it similarly cautions that “the Commission's authority to regulate OTT text messaging services and applications is limited,” and that the Commission should therefore ensure that any rule adopted under the CVAA is both technically feasible and achievable.

68. VON Coalition's assertion that we are mandating the use of proprietary technologies, systems, or services, contrary to the CVAA, is incorrect. We recognize that most covered text providers may well use the interim SMS standard initially; indeed, VON Coalition appears to have no objection to its implementation by December 31, 2014, assuming the cooperation of CMRS providers. However, we do not require the use of any specific technology or text messaging protocol, as long as the technology or protocol utilized is capable of properly routing and delivering a text to 911. Finally, we determine that the text-to-911 rules are achievable and technically feasible.

69. As to the alternate basis for authority over interconnected text providers (i.e., as ancillary to the Commission's direct sources of statutory authority), VON Coalition seeks to cabin the ancillary authority outlined in the Bounce-Back Order as designed solely “to ensure that misleading messages are not sent via radio spectrum.” We disagree. Although we need not rely on such ancillary authority given the direct authority provided by the CVAA, there are multiple reasons why mandating text-to-911 capability by interconnected text providers is within the broad scope of the Commission's ancillary authority.

70. As outlined in the Bounce-Back Order, the Commission has broad authority under Title III to prescribe the nature of the service provided by CMRS providers, and it is undisputed that such authority extends to requiring text-to-911 capability. Given the growing use of third-party text applications over CMRS networks by their customers, ensuring that those applications provide text-to-911 capability is reasonably necessary to promote that capability over spectrum authorized for use under Title III. Moreover, as the Commission discussed at length in the Bounce-Back Order, consumer confusion over which texting services would offer text-to-911 would undermine the Commission's ability to implement text-to-911 effectively. Similarly, the purpose of the CVAA was to expand access to emergency services for consumers with disabilities, and if our work is undermined by consumer confusion, we will not be able to fulfill our statutory grant of authority pursuant to the CVAA. As applied here, extending text-to-911 requirements to interconnected text providers as well as CMRS providers will support the widespread availability of text-to-911 to those who are deaf, hard of hearing, or speech-disabled, serve to eliminate consumer confusion about the reliability of text-to-911, and thereby assist the Commission in achieving its mandate under the CVAA. This is particularly true in situations where voice calls are dangerous, impractical, or simply incapable of being transmitted, or where time is too critical to require a consumer to determine whether or how she might rely on an alternative CMRS voice or texting capability.

71. We also find that adopting text-to-911 rules is reasonably ancillary to the purpose of 911-related statutes. Ensuring that consumers can rely on increasingly popular and data-rich texting applications to obtain access to 911 service promotes the availability and effectiveness of 911 service consistent with the central purpose of these statutes.

72. We do not interpret these sources of authority as granting the Commission unbounded authority to adopt regulations. Our exercise of ancillary authority here falls squarely within the core of general grant of jurisdiction in Title I with respect to “all interstate and foreign communication by wire and radio.” This limited but important context is one where Congress has consistently acted and directed the Commission to ensure that consumers using advanced services, including those provided by entities that the Commission has not classified as telecommunications carriers, and particularly those who are deaf, hard of hearing, or speech disabled, can reach emergency services. Indeed, one of the principal purposes of the Commission, as set forth by Congress in section 1 of the Communications Act, 47 U.S.C. 151, is to ensure that we exercise our substantive grants of authority in a manner that “promot[es] safety of life of property.” We thus find that the exercise of our authority in this case is not only directly authorized by but also reasonably ancillary to the effective performance of our statutorily mandated responsibilities. We find that we could not fully realize those responsibilities if consumers do not view text-to-911 as a reliable means of reaching 911.

Task Force on Optimal PSAP Architecture

73. We find that further examination is needed, in cooperation with state, local, and tribal jurisdictions and their associated PSAPs, on the current structure and architecture of our nation's PSAPs. The large number of PSAPs, now nearing 6800, potentially increases the costs and resources needed from the communications industry, public safety community, and state, local, and tribal governments. In particular, we are interested in determining whether additional consolidation of PSAP facilities and architecture would promote greater efficiency of operations, safety of life, and cost containment, while retaining needed integration with local first responder dispatch and support. This issue is especially timely as public safety communications systems are converting to NG911 in the coming years. It is also important because a number of states continue to divert critical E911 funding from its intended purposes to unrelated functions. Specifically, the most recent annual FCC report to Congress on this issue found that four states are still diverting such funds and, equally troubling, one state and four territories declined to even respond to our inquiry.

74. CSRIC last updated the Commission on this subject with the issuance of its 2010 final report on public safety consolidation, CSRIC I, WG 1-A, Final Report—Key Findings and Effective Practices for PSAP Consolidation (rel. Oct. 2010), available at http://transition.fcc.gov/pshs/docs/csric/CSRIC-1A-Report.pdf. In its report, CSRIC's working group stated that “[r]ecent trends toward regional, multi-jurisdictional and multi-disciplinary solutions with standards based shared systems have demonstrated that they can lead to technical, operational, and financial advantages for the participants.” While that report is useful, a new review and updated data, given the numerous changes in technology, would be informative. Accordingly, we direct PSHSB, consistent with any and all requirements of the Federal Advisory Committee Act, to convene a task force that includes representatives from state, local and tribal authorities and the currently constituted CSRIC to study and report findings and recommendations on the following issues by April 30, 2015: (1) Optimal PSAP system and network configuration in terms of emergency communications efficiency, performance, and operations functionality; (2) cost projections for conversion to and annual operation of PSAPs that incorporate such optimal system design; (3) comparative cost projections for annual maintenance of all existing PSAPs annually and upgrading them to NG911; (4) recommendations on ways to prevent states from diverting E911 funding to other purposes; and (5) whether states that divert E911 funds should be ineligible to participate on various FCC councils, committees, and working groups. These recommendations will provide a benchmark for the Commission, state, local, and tribal authorities, PSAPs and others to compare approaches for improving the effectiveness and efficiency of the nation's current and future 911 system.

Procedural Matters

75. Accessible Formats. To request materials in accessible formats for people with disabilities (braille, large print, electronic files, audio format), send an email to fcc504@fcc.gov or call the Consumer & Governmental Affairs Bureau at 202-418-0530 (voice), 202-418-0432 (TTY).

76. Regulatory Flexibility Act. As required by the Regulatory Flexibility Act of 1980, as amended (RFA) the Commission incorporated an Initial Regulatory Flexibility Analysis (IRFA) of the possible significant economic impact on a substantial number of small entities by the policies and rules proposed in the Second Further Notice of Proposed Rulemaking (Second Further Notice). No comments were filed addressing the IRFA regarding the issues raised in the Second Further Notice. Because the Commission amends the rules in this Second Report and Order, the Commission has included this Final Regulatory Flexibility Analysis (FRFA). This present FRFA conforms to the RFA.

Final Regulatory Flexibility Analysis

A. Need for, and Objectives of, the Adopted Rules

77. Wireless consumers are increasingly using text messaging as a means of everyday communication on a variety of platforms. The legacy 911 system, however, does not support text messaging as a means of reaching emergency responders, leading to potential consumer confusion and even to possible danger. As consumer use of CMRS provider-based and third party-provided texting applications expands and evolves, the 911 system must also evolve to enable wireless consumers to reach 911 in those emergency situations where a voice call is not feasible or appropriate.

78. In this Second Report and Order, we adopt rules that set timeframes that will enable Americans to send text messages to 911 (text-to-911) across platforms. Specifically, we require all CMRS providers and providers of interconnected text messaging applications (collectively, “covered text providers”) to be able to support the ability of consumers to send text messages to 911 no later than December 31, 2014. We also require that covered text providers must begin delivering text-to-911 service by June 30, 2015, or within six months from the date it receives a valid PSAP request, whichever is later, unless the PSAP and covered text provider mutually agree to an alternate timeframe and the covered text provider timely notifies the Commission within 30 days of the agreement.

79. Our requirements build on the voluntary commitment by the four largest CMRS providers—in an agreement with the National Emergency Number Association (NENA), and the Association of Public Safety Communications Officials (APCO) (Carrier-NENA-APCO Agreement)—to make text-to-911 available to their customers by May 15, 2014. The requirements we adopt here are largely consistent with the Carrier-NENA-APCO Agreement.

80. Establishing timeframes for the addition of text capability to the 911 system for all consumers will vastly enhance the system's accessibility for over 40 million Americans who are deaf, hard of hearing, or speech-disabled. It will also provide a vital and lifesaving alternative to the public in situations where 911 voice service is unavailable or placing a voice call could endanger the caller. Indeed, as recent history has shown, text messaging is often the most reliable means of communications during disasters where voice calls cannot be completed due to capacity constraints. Finally, implementing text-to-911 represents a crucial next step in the ongoing transition of the legacy 911 system to a NG911 system that will support not only text but will also enable consumers to send photos, videos, and data to PSAPs, enhancing the information available to first responders for assessing and responding to emergencies.

81. Our approach to text-to-911 is also based on the presumption that consumers in emergency situations should be able to communicate using the text applications they are most familiar with from everyday use. Currently, the most commonly used texting technology is Short Message Service (SMS), which is available, familiar, and widely used by virtually all wireless consumers. The four major CMRS providers have been using SMS-based text for their initial text-to-911 deployments, and we expect other initial deployments to be similarly SMS-based.

82. As a result of the rapid proliferation of smartphones and other advanced mobile devices, some consumers are beginning to move away from SMS to other IP-based text applications, including downloadable software applications provided by parties other than the underlying CMRS provider. To the extent that consumers gravitate to such applications as their primary means of communicating by text, they may reasonably come to expect these applications to also support text-to-911, as consumer familiarity is vital in emergency situations where seconds matter. Therefore, in this Second Report and Order, we ensure that consumers have access to the same text-to-911 capabilities on the full array of interconnected texting applications that they use ubiquitously within a reasonable timeframe.

B. Summary of Significant Issues Raised by Public Comments in Response to the IRFA

83. No commenter raised issues in response to the IRFA included in the Second Further Notice. The Commission concludes that the mandates adopted here provide covered text providers and PSAPs with a sufficient measure of flexibility to account for technical and cost-related concerns. In the event that small entities face unique circumstances that restrict their ability to comply with the Commission's rules, the Commission can address them through the waiver process. The Commission has determined that implementing text-to-911 is technically feasible and the cost of implementation is small.

C. Description and Estimate of the Number of Small Entities to Which the Adopted Rules Would Apply

84. The RFA directs agencies to provide a description of, and, where feasible, an estimate of the number of small entities that may be affected by the rules adopted, herein. The RFA generally defines the term “small entity” as having the same meaning as the terms “small business,” “small organization,” and “small governmental jurisdiction.” In addition, the term “small business” has the same meaning as the term “small business concern” under the Small Business Act. A “small business concern” is one which: (1) Is independently owned and operated; (2) is not dominant in its field of operation; and (3) satisfies any additional criteria established by the SBA. Below, we describe and estimate the number of small entity licensees that may be affected by the adopted rules.

85. Small Businesses, Small Organizations, and Small Governmental Jurisdictions. Our action may, over time, affect small entities that are not easily categorized at present. The Commission's current Master PSAP registry indicates that there are more than 6,000 active PSAPs, which we conclude fall into this category. Should a PSAP choose to implement text-to-911, they will be affected by the adopted rules. We emphasize, however, that PSAPs retain the choice of whether to implement text-to-911; any PSAP that chooses not to implement text-to-911 will not be affected by the adopted rules. As of 2009, small businesses represented 99.9% of the 27.5 million businesses in the United States, according to the SBA. Additionally, a “small organization” is generally “any not-for-profit enterprise which is independently owned and operated and is not dominant in its field.” Nationwide, as of 2007, there were approximately 1,621,315 small organizations. Finally, the term “small governmental jurisdiction” is defined generally as “governments of cities, counties, towns, townships, villages, school districts, or special districts, with a population of less than fifty thousand.” Census Bureau data for 2007 indicate that there were 89,527 governmental jurisdictions in the United States. We estimate that, of this total, as many as 88,761 entities may qualify as “small governmental jurisdictions.” Thus, we estimate that most governmental jurisdictions are small.

85. Other Small Entities to Which the Adopted Rules Would Apply. The following small entities may be affected by the adopted rules: Wireless Telecommunications Carriers (except satellite); Incumbent Local Exchange Carriers (Incumbent LECs); Competitive Local Exchange Carriers (Competitive LECs), Competitive Access Providers (CAPs), Shared-Tenant Service Providers, and Other Local Service Providers; Broadband Personal Communications Service; Narrowband Personal Communications Services; Rural Radiotelephone Service; Wireless Communications Services; 220 MHz Radio Service—Phase I Licensees; 220 MHz Radio Service—Phase II Licensees; Wireless Telephony; Satellite Telecommunications Providers; Radio and Television Broadcasting and Wireless Communications Equipment Manufacturing; Semiconductor and Related Device Manufacturing; Software Publishers; Internet Service Providers; Internet Publishing and Broadcasting and Web Search Portals; All Other Information Services; and All Other Telecommunications.

The full Final Regulatory Flexibility Analysis (FRFA), which includes descriptions and estimates of these small entities, can be found in the Second Report and Order, available at http://www.fcc.gov/document/fcc-adopts-text-911-rules. The Second Report and Order and its accompanying FRFA can also be accessed through the Commission's Electronic Document Management System (EDOCS) by searching for FCC No. 14-118.

D. Description of Projected Reporting, Recordkeeping, and Other Compliance Requirements for Small Entities

86. In the Second Report and Order, the Commission amends its Part 20 rules to require CMRS providers and interconnected text providers (collectively, “covered text providers”) to be capable of supporting text-to-911 by December 31, 2014. Specifically, the rules apply to all CMRS providers subject to the Commission's Part 20 rules as well as all providers of interconnected text messaging services that enable consumers to send text messages to and receive text messages from all or substantially all text-capable U.S. telephone numbers, including through the use of applications downloaded or otherwise natively installed on a mobile device. Covered text providers must commence delivery of 911 text messages to requesting PSAPs by June 30, 2015, or six months from the date of receipt of a valid PSAP request, whichever is later. Covered text providers and PSAPs may mutually agree to an alternate implementation timeframe, but covered text providers must notify the Commission within 30 days of such agreement. A PSAP may make a valid request for text-to-911 service by certifying that it is “text-ready,” and we encourage PSAPs to register in the Commission's PSAP registry once it is available. Covered text providers may utilize a messaging platform that can support multiple addresses or enable sending images and video, but they must ensure that these features do not interfere with the delivery of the text portion of the message to a PSAP.

87. The Second Report and Order also requires covered text providers to route text messages to the appropriate PSAP using coarse location information or some other equivalent means. In the event a covered text provider implements a text-to-911 solution that does not access the CMRS network—and therefore cannot provide coarse location—the covered text provider must obtain sufficient location information through some other means to route the text to the appropriate PSAP. All covered text providers using device-based location information that requires consumer activation must clearly inform consumers that they must grant permission for the text messaging application to access the wireless device's location information in order to enable text-to-911. If a consumer does not permit this access, then the application must provide an automated bounce-back message.

88. We anticipate that many interconnected text providers will choose the CMRS network-based delivery model for text-to-911, at least as an interim measure. In order to facilitate the use of this method, the Second Report and Order requires that CMRS providers shall allow access to capabilities necessary for transmission of text-to-911 communications by other covered text providers. However, CMRS providers need not reconfigure any SMS text-to-911 platforms in order to facilitate other covered text providers' use of their networks, and the obligation to allow access to CMRS networks is limited to the extent that the CMRS providers offers SMS. A covered text provider selecting the CMRS network-based solution must ensure that its service is technically compatible with the CMRS provider's SMS networks and devices, and in conformance with any applicable technical standards.

89. The Second Report and Order also states that CMRS providers may receive commercially reasonable compensation for the delivery of 911 text messages, but it does not require CMRS providers to allow text-to-911 traffic over their SMS networks from any end users that do not have an underlying SMS plan. All covered text providers using the CMRS network-based delivery model for text-to-911 must clearly inform consumers that, absent an SMS plan with the consumer's underlying CMRS provider, the covered text provider may be unable to deliver 911 text messages. The Second Report and Order also permits CMRS providers to migrate away from SMS platforms in favor of newer technologies. CMRS providers are not required to maintain the SMS network for use by other covered text providers, but if they choose to migrate to another technology, they must provide reasonable advance notice to the affected covered text providers about not less than 90 days prior to the migration.

90. The compliance requirements in the Second Report and Order will apply to all entities in the same manner. The Commission believes that applying the same rules equally to all entities in this context is necessary to alleviate potential consumer confusion from adopting different rules for different covered text providers. The Commission finds, and the record in this proceeding confirms, that the costs and/or administrative burdens associated with the rules will not unduly burden small entities.

91. Based on the record, CMRS providers and interconnected text providers have agreed that these changes are technically and financially feasible, with relatively small costs to the covered text provider. Compliance costs for interconnected text providers will be small, requiring only minor coding and/or server changes. Additionally, covered text providers can operate using the ATIS/TIA J-STD-110, which serves to reduce potential administrative, legal and technical costs of compliance.

E. Steps Taken To Minimize Significant Economic Impact on Small Entities, and Significant Alternatives Considered

92. The RFA requires an agency to describe any significant, specifically small business alternatives that it has considered in reaching its proposed approach, which may include the following four alternatives (among others): “(1) the establishment of differing compliance or reporting requirements or timetables that take into account the resources available to small entities; (2) the clarification, consolidation, or simplification of compliance or reporting requirements under the rule for small entities; (3) the use of performance, rather than design, standards; and (4) an exemption from coverage of the rule, or any part thereof, for small entities.”

93. Based on the Commission's review of the record, the Commission finds that it is practicable for all CMRS providers, including small and rural CMRS providers, to implement text-to-911 by December 31, 2014 without incurring unduly burdensome costs. The record also reflects that it is not unduly burdensome for interconnected text providers to implement text-to-911 in the same timeframe. The Second Report and Order recognizes the technical and operational issues that must be addressed before commencing text-to-911 service, and allows six months from the date of a valid PSAP request for covered text providers to achieve text-to-911 capability.

94. In considering the record received in response to the Second Further Notice, the Commission has examined alternatives to ease the burden on small and rural CMRS providers. These alternatives included extending the implementation deadline, or exempting small and rural CMRS providers. However, the record in this proceeding indicates that the technical and financial costs for implementing text-to-911 are not unduly burdensome. The rules adopted in the Second Report and Order also allow for alternate timeframes if both the PSAP and the covered text provider mutually agree to the adjusted timeline and the covered text provider notifies the Commission within 30 days of the agreement, which should alleviate the burdens of smaller covered text providers. The Commission has also examined ways in which the burden may be eased for interconnected text providers, including extending the implementation deadline. The Second Report and Order also describes a PSAP database, to be administered by the Commission, in which covered text providers can identify which PSAPs are “text ready,” thereby reducing the amount of time and resources that would be dedicated to reaching out to PSAPs and handling PSAP requests.

95. Further, the Second Report and Order contains a detailed Cost-Benefit Analysis which finds that the life-saving public safety benefits of imposing a text-to-911 requirement on covered text providers far outweigh the costs of such a rule. Finally, in the event that small entities face unique circumstances with respect to these rules, such entities may request waiver relief from the Commission. Accordingly, the Commission finds that it has discharged its duty to consider the burdens imposed on small entities.

96. Paperwork Reduction Analysis. The Second Report and Order contains new information collection requirements subject to the Paperwork Reduction Act of 1995 (PRA), Public Law 104-13. It will be submitted to the Office of Management and Budget (OMB) for review under section 3507(d) of the PRA. OMB, the general public, and other Federal agencies are invited to comment on the new information collection requirements contained in this proceeding.

97. Congressional Review Act. The Commission will send a copy of this Second Report and Order in a report to be sent to Congress and the Government Accountability Office pursuant to the Congressional Review Act (CRA), see 5 U.S.C. 801(a)(1)(A).

Ordering Clauses

98. Accordingly, it is ordered, pursuant to sections 1, 2, 4(i), 4(j), 4(o), 251(e), 303(b), 303(g), 303(r), 316, and 403 of the Communications Act of 1934, as amended, 47 U.S.C. 151, 152, 154(i), 154(j), 154(o), 251(e), 303(b), 303(g), 303(r), 316, 403, and section 4 of the Wireless Communications and Public Safety Act of 1999, Public Law 106-81, sections 101 and 201 of the New and Emerging Technologies 911 Improvement Act of 2008, Public Law 110-283, and section 106 of the Twenty-First Century Communications and Video Accessibility Act of 2010, Public Law 111-260, 47 U.S.C. 615a, 615a-1, 615b, 615c, that the Second Report and Order and Third Further Notice of Proposed Rulemaking in PS Docket No. 11-153 and PS Docket No. 10-255 Is Adopted and shall become effective thirty (30) days after publication of the text or summary thereof in the Federal Register, except for those rules and requirements that require approval by the Office of Management and Budget (OMB) under the Paperwork Reduction Act, which shall become effective after the Commission publishes a notice in the Federal Register announcing such approval and the relevant effective date.

99. It is further ordered that the Commission's Consumer and Governmental Affairs Bureau, Reference Information Center, shall send a copy of this Second Report and Order and Third Further Notice of Proposed Rulemaking, including the Final Regulatory Flexibility Analysis and Initial Regulatory Flexibility Analysis, to the Chief Counsel for Advocacy of the Small Business Administration.

List of Subjects in 47 CFR Part 20

Communications common carriers, Communications equipment, Radio.

Federal Communications Commission.
Marlene H. Dortch,
Secretary.

Final Rules

For the reasons discussed in the preamble, the Federal Communications Commission amends 47 CFR part 20 as follows:

PART 20—COMMERCIAL MOBILE RADIO SERVICES

1. The authority citation for part 20 is revised to read as follows:

Authority: 47 U.S.C. 151, 152, 154(i), 201(b), 225, 301, 303(b), 303(g), 303(r), 316, 403, 615a, 615a-1, 615b, and 47 U.S.C. 615c.

2. Section 20.18 is amended by adding paragraphs (n)(9) through (11) to read as follows:

§ 20.18 911 Service.

* * * * *

(n) * * *

(9) 911 text message. A 911 text message is a message, consisting of text characters, sent to the short code “911” and intended to be delivered to a PSAP by a covered text provider, regardless of the text messaging platform used.

(10) Delivery of 911 text messages. (i) No later than December 31, 2014, all covered text providers must have the capability to route a 911 text message to a PSAP. In complying with this requirement, covered text providers must obtain location information sufficient to route text messages to the same PSAP to which a 911 voice call would be routed, unless the responsible local or state entity designates a different PSAP to receive 911 text messages and informs the covered text provider of that change. All covered text providers using device-based location information that requires consumer activation must clearly inform consumers that they must grant permission for the text messaging application to access the wireless device's location information in order to enable text-to-911. If a consumer does not permit this access, the covered text provider's text application must provide an automated bounce-back message as set forth in paragraph (n)(3) of this section.

(ii) Covered text providers must begin routing all 911 text messages to a PSAP by June 30, 2015, or within six months of the PSAP's valid request for text-to-911 service, whichever is later, unless an alternate timeframe is agreed to by both the PSAP and the covered text provider. The covered text provider must notify the Commission of the dates and terms of the alternate timeframe within 30 days of the parties' agreement.

(iii) Valid Request means that:

(A) The requesting PSAP is, and certifies that it is, technically ready to receive 911 text messages in the format requested;

(B) The appropriate local or state 911 service governing authority has specifically authorized the PSAP to accept and, by extension, the covered text provider to provide, text-to-911 service; and

(C) The requesting PSAP has provided notification to the covered text provider that it meets the foregoing requirements. Registration by the PSAP in a database made available by the Commission in accordance with requirements established in connection therewith, or any other written notification reasonably acceptable to the covered text provider, shall constitute sufficient notification for purposes of this paragraph.

(iv) The requirements set forth in paragraphs (n)(10)(i) through (iii) of this section do not apply to in-flight text messaging providers, MSS providers, or IP Relay service providers, or to 911 text messages that originate from Wi-Fi only locations or that are transmitted from devices that cannot access the CMRS network.

(11) Access to SMS networks for 911 text messages. To the extent that CMRS providers offer Short Message Service (SMS), they shall allow access by any other covered text provider to the capabilities necessary for transmission of 911 text messages originating on such other covered text providers' application services. Covered text providers using the CMRS network to deliver 911 text messages must clearly inform consumers that, absent an SMS plan with the consumer's underlying CMRS provider, the covered text provider may be unable to deliver 911 text messages. CMRS providers may migrate to other technologies and need not retain SMS networks solely for other covered text providers' 911 use, but must notify the affected covered text providers not less than 90 days before the migration is to occur.

[FR Doc. 2014-21851 Filed 9-15-14; 8:45 am]

BILLING CODE 6712-01-P